DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of the Communities Talk: Town Hall Meetings To Prevent Underage Drinking—(OMB No. 0930-0288)—Revision

The Substance Abuse and Mental Health Services Administration/Center for Substance Abuse Prevention (SAMHSA/CSAP) is requesting a revision from the Office of Management and Budget (OMB) of the information collection regarding the Assessment of the Communities Talk: Town Hall Meetings to Prevent Underage Drinking. The current data collection has approval under OMB No. 0930-0288, Assessment of the Town Hall Meetings on Underage Drinking Prevention, which expires on January 31, 2017. Revisions were made to the two existing data collection instruments: The Organizer Survey and the Participant Form (English and Spanish versions). SAMHSA is requesting to add a new data collection instrument titled the Organizer Survey—6 month Follow-up, in which hosts of the Communities Talk events will opt in to provide information on any actions that were taken as result of the Communities Talk event.

Changes

Under the current approval, the Organizer Survey consists of 30 items. Under this revision, the Organizer Survey includes 20 items about the Communities Talk event. The following table provides a summary of the proposed changes to the instrument.

Current question/item | Changes
Wording change for THM | Changed throughout to `Communities Talk'.
q2—Location of event | Added Zip Code as a response option (new q2).
q4—Length of event | Question updated and entry field [(fill in)] (new q3).
q8—Other topics discussed (fill in) | Slight wording change of question; added the words `non-alcohol-related . . . (What non-alcohol-related topics); added as a secondary question to new q12.
q9—Promotion of the event | Dropped `in the community' from the question and updated the response options (new q8).
q10—Number of event attendees | Provided clarification for physical and virtual attendees (new q9).
q13—Topics discussed at the event | Slight wording change of question; added the words `alcohol-related' (. . . following alcohol-related topics . . .); response options updated (new q13).
q14—Use of materials from www.stopalcoholabuse.gov | Updated website address (new q17).
q16—Planned activities as a result of the event | Updated question and response options (new q15).
q17—Satisfaction with event | Question deleted.
q18/q19—Participation in event-related webinar and identification of that event | Question deleted.
q20/q21—Viewing of online training and identification of that training | Question deleted.
q22—Utility of training to organization's prevention work | Updated lead-in to statements; updated wording to be properly aligned with the training and technical assistance performance measures for science and service activities (changed from . . . my organization's . . . [to] . . . your organization's. . .) (new q18).
q23—Improved capacity due to the training received | Updated wording to be properly aligned with the training and technical assistance performance measures for science and service activities (added the word `that' to . . .training that I received . . . ) (new q18).
q24/q25—Technical assistance (TA) received and how submitted request for TA | Question deleted.
q26—Utility of TA to organization's prevention work | Updated lead-in to statements; wording to be properly aligned with the training and technical assistance performance measures for science and service activities (changed from . . . my organization's . . . [to] . . . your organization's) (new q18).
q27—Improved capacity due to the TA received | Updated wording to be properly aligned with the training and technical assistance performance measures for science and service activities (added the word `that' to . . . TA that I received . . .) (new q18).
q28—Share additional information about event | Removed the word `us' (. . . share with any other . . .) (new q19).
q29/q30—Data collected about event and sharing of data with SAMHSA, including information on where to send the data | Updated questions and mailing information (new q20 and secondary question to new q20).

Three new questions were added pertaining to what influenced the decision to host an event (new q5), perception of how important UAD and its consequences is to the community (new q14), and agreement with mobilization actions statements (new q16).

The revisions were necessary to better align the data gathered to the short-term and long-term outcomes of the Communities Talk for event hosts, specifically—

Short-Term

• Increase utility of training.

• Increase utility of technical assistance.

Long-Term

• Increase national conversations about UAD.

• Increase youth involvement in UAD.

• Increase community mobilization for UAD prevention.

• Increase organization capacity for prevention.

• Increase use of evidence-based approaches to UAD prevention.

Changes were also made to the Participant Form. Under the current approval, the Participant Form consists of 14 items. Under this revision, the Participant Form includes 17 items about the Communities Talk event. The following table provides a summary of the proposed changes to the instrument, in English and Spanish.

Current question/item | Changes
Wording change for THM | Changed throughout to `Communities Talk'.
q2—Location of event | Added Zip Code as a response option (new q2).
q3—Most important UAD issues facing community | Question wording change and response options updated (new q3).
q5—Learn anything about UAD and its associated problems before attending the event | Slight wording change of question, added the word `new' (. . . learn anything new . . .) (new q5).
q7—Sharing of materials or lessons learned from the event | Response options updated (new q8).
q9—How will become more involved in decreasing UAD in community | Question wording change and response options updated (new q11).
q10—Gender | Updated to say `sex' (new q13).
q13—Race | Updated order of response options (new q16).

Three new questions were added surrounding how often respondents are involved in UAD prevention in the community (new q9), likelihood will become more involved in UAD prevention in the community (new q10), and agreement with mobilization actions statements (new q12).

The revisions were necessary to better align the data gathered to the short-term and long-term outcomes of the Communities Talk, specifically—

Short-Term

• Increase knowledge of UAD prevention.

• Increase intentions to share information on UAD prevention.

Long-Term

• Increase national conversations about UAD.

• Increase youth involvement in UAD.

• Increase community mobilization for UAD prevention.

CBOs that opt in to be contacted 6 months after completing the Organizer Survey for SAMHSA to follow up on any actions that were taken as a result of the Communities Talk event in their community will be provided with the Organizer Survey—6 month Follow-up. This survey will allow SAMHSA to measure progress towards the short- and long-term outcomes of the Communities Talk, specifically—

Short-Term

• Increase utility of training.

• Increase utility of technical assistance.

Long-Term

• Increase national conversations about UAD.

• Increase youth involvement in UAD prevention.

• Increase community mobilization for UAD prevention.

• Increase capacity for prevention organizers.

• Increase use of evidence-based approaches to UAD prevention.

The Organizer Survey—6 month Follow-up consists of 13 items and captures information on—

• Where the Communities Talk event was held;

• Awareness of UAD activities that have taken place as a result of the event;

• Community mobilization and collaboration efforts;

• Perception of the importance of UAD and its consequences to the community; and

• Increase in youth involvement in UAD prevention activities in the community.

SAMHSA supports nationwide Communities Talk events every other year. Collecting data on each round of Communities Talk events, and using this information to inform policy and measure impact, supports SAMHSA's strategic initiative number 1: Prevention of substance use and mental illness. A specific goal under this initiative is to prevent or reduce the consequences of UAD and adult problem drinking; a specific objective is to establish the prevention of UAD as a priority issue for states, territories, tribal entities, colleges and universities, and communities.

SAMHSA will use the information collected to document the implementation efforts of this nationwide initiative, determine if the federally sponsored Communities Talk events lead to additional activities within the community that are aimed at preventing and reducing UAD, identify what these activities may possibly include, and help plan for future rounds of Communities Talk events. SAMHSA intends to post online a summary document of each round of Communities Talk events and present findings at national conferences attended by CBOs that have hosted these events and might host future events. Similarly, SAMHSA plans to share findings with the Interagency Coordinating Committee on the Prevention of Underage Drinking. Agencies within this committee encourage their grantees to participate as the event hosts.

Additionally, the information collected will support performance measurement for SAMHSA programs under the Government Performance Results Act (GPRA).

Data Collection Component

SAMHSA/CSAP will use a web-based method to collect data through the Organizer Survey and Organizer Survey—6 month Follow-up, and a paper-and-pencil approach to collect data through the Participant Form. The web-based application will comply with the requirements of Section 508 of the Rehabilitation Act to permit accessibility to people with disabilities.

Every 2 years, the Organizer Survey will be completed by an estimated 500 Communities Talk event organizers and will require only one response per respondent. It will take an average of 10 minutes (0.167 hours) to review the instructions and complete the survey. Similarly, the Organizer Survey—6 month Follow-up will be completed by an estimated 500 Communities Talk event organizers and will require only one response per respondent. It will take an average of 15 minutes (0.25 hours) to review the instructions and complete the survey. This burden estimate is based on comments from three 2016 Communities Talk even hosts who reviewed the survey and provided comments on how long it would take them to complete it.

The Participant Form will be completed by an average of 30 participants per sampled community-based organization (n = 400) and will require only one response per respondent. It will take an average of 5 minutes (0.083 hours) to review the instructions and complete the form.

Estimated Annualized Burden Table
Form name | Number of respondents | Responses per respondent | Total responses | Hours per response | Total hour burden
Organizer Survey | 500 | 1 | 500 | 0.167 | 83.50
Organizer Survey—6 month Follow-up | 500 | 1 | 500 | 0.25 | 125.00
Participant Form | 4,500 | 1 | 4,500 | 0.083 | 373.50
Total | 5,500 |  | 5,500 |  | 582.00

Send comments to Summer King, SAMHSA Reports Clearance Officer, 5600 Fishers Lane, Room 15E57-B, Rockville, Maryland 20857, OR email a copy to summer.king@samhsa.hhs.gov. Written comments should be received by January 9, 2017.

Summer King,
Statistician.

[FR Doc. 2016-26968 Filed 11-7-16; 8:45 am]

BILLING CODE 4162-20-P